Title 3—

The President

Proclamation 7639 of January 14, 2003

National Sanctity of Human Life Day, 2003

By the President of the United States of America

A Proclamation

Our Nation was built on a promise of life and liberty for all citizens. Guided by a deep respect for human dignity, our Founding Fathers worked to secure these rights for future generations, and today we continue to seek to fulfill their promise in our laws and our society. On National Sanctity of Human Life Day, we reaffirm the value of human life and renew our dedication to ensuring that every American has access to life, liberty, and the pursuit of happiness.

As we seek to improve quality of life, overcome illness, and promote vital medical research, my Administration will continue to honor our country's founding ideals of equal dignity and equal rights for every American. Every child is a priority and a blessing, and I believe that all should be welcomed in life and protected by law. My Administration has championed compassionate alternatives to abortion, such as helping women in crisis through maternity group homes, encouraging adoption, promoting abstinence education, and passing laws requiring parental notification and waiting periods for minors.

The Born-Alive Infants Protection Act, which I signed into law in August 2002, is an important contribution to our efforts to care for human life. This important legislation helps protect the most vulnerable members of our society by ensuring that every infant born alive, including one who survives abortion, is considered a person and receives protection under Federal law. It helps achieve the promises of the Declaration of Independence for all, including those without the voice and power to defend their own rights.

Through ethical policies and the compassion of Americans, we will continue to build a culture that respects life. Faith- based and community organizations and individual citizens play a critical role in strengthening our neighborhoods and bringing care and comfort to those in need. By helping fellow citizens, these groups recognize the dignity of every human being and the possibilities of every life; and their important efforts are helping to build a more just and generous Nation. By working together to protect the weak, the imperfect, and the unwanted, we affirm a culture of hope and help ensure a brighter future for all.

NOW, THEREFORE, I, GEORGE W. BUSH, President of the United States of America, by virtue of the authority vested in me by the Constitution and laws of the United States, do hereby proclaim Sunday, January 19, 2003, as National Sanctity of Human Life Day. As we reflect upon the sanctity of human life, I call upon all Americans to recognize this day with appropriate ceremonies in our homes and places of worship, to rededicate ourselves to compassionate service, and to reaffirm our commitment to respecting the life and dignity of every human being.

IN WITNESS WHEREOF, I have hereunto set my hand this fourteenth day of January, in the year of our Lord two thousand three, and of the Independence of the United States of America the two hundred and twenty-seventh.

B

[FR Doc. 03-1276

Filed 1-16-03; 8:45 am]

Billing code 3195-01-P